DEPARTMENT OF HEALTH AND HUMAN SERVICES

National Institutes of Health

Notice of Establishment

Pursuant to the Federal Advisory Committee Act, as amended (5 U.S.C. Appendix 2), the Director, National Institutes of Health (NIH), announces the establishment of the Board of Scientific Counselors, National Institute of Biomedical Imaging and Bioengineering (Committee).

This Committee shall advise the Director, NIH; the Deputy Director for Intramural Research, NIH; the Director, National Institute of Biomedical Imaging and Bioengineering (NIBIB); and the Scientific Director, NIBIB, concerning the intramural research programs through periodic visits to the laboratories to assess the research in progress, the proposed research, and evaluation of the productivity and performance of tenured, tenure track and staff scientists and physicians.

This Committee will consist of eight members, including the Chair, appointed by the Director, NIH, from authorities knowledgeable about biomedical imaging and bioengineering.

Duration of this committee is continuing unless formally determined by the Director, NIH, that termination would be in the best public interest.

Dated: June 18, 2008.
Elias A. Zerhouni,
Director, National Institutes of Health.

[FR Doc. E8-14461 Filed 6-25-08; 8:45 am]

BILLING CODE 4140-01-M